ENVIRONMENTAL PROTECTION AGENCY

40 CFR Part 52

[WI88-01-7319b; FRL-6706-4]

Approval and Promulgation of State Implementation Plans; Wisconsin; Site-Specific Revision for Uniroyal Engineered Products

AGENCY: Environmental Protection Agency (EPA).

ACTION: Proposed rule.

SUMMARY: We are proposing to approve a site specific revision to the volatile organic compound (VOC) control requirements for Uniroyal Engineered Products, Inc., located in Stoughton, Wisconsin. The Wisconsin Department of Natural Resources (WDNR) submitted this State Implementation Plan (SIP) revision on October 30, 1999 and revised it on February 17, 2000. Our approval of this revision would make federally enforceable the State's February 7, 2000, Consent Order AM-99-900, which establishes alternate control requirements for Uniroyal. In the final rules section of this Federal Register, we are approving the SIP revision as a direct final rule without prior proposal, because we view this as a noncontroversial revision amendment and anticipate no adverse comments. A detailed rationale for the approval is set forth in the direct final rule. If no adverse comments are received in response to this action, no further activity is contemplated in relation to this proposed rule. If we receive adverse comments, we will withdraw the direct final rule and we will address all public comments received in a subsequent final rule based on this proposed rule. We will not institute a second comment period on this action. Any parties interested in commenting on this action should do so at this time.

DATES: We must receive written comments on this proposed action by July 10, 2000.

ADDRESSES: Send written comments to: Carlton T. Nash, Chief, Regulation Development Section, Air Programs Branch (AR-18J), EPA Region 5, 77 West Jackson Boulevard, Chicago, Illinois 60604-3590.

FOR FURTHER INFORMATION CONTACT: Kathleen D'Agostino, Regulation Development Section, Air Programs Branch (AR-18J), EPA Region 5, 77 West Jackson Boulevard, Chicago, Illinois 60604, (312) 886-1767.

SUPPLEMENTARY INFORMATION: For additional information, see the Direct Final notice which is located in the Rules section of this Federal Register. Copies of the request and the EPA's analysis are available for inspection at the above address. (Please telephone Kathleen D'Agostino at (312) 886-1767 before visiting the Region 5 Office.)

Authority: 42 U.S.C. 7401 et seq.

Dated: May 12, 2000.
Robert Springer,
Acting Regional Administrator, Region 5.

[FR Doc. 00-14176 Filed 6-7-00; 8:45 am]

BILLING CODE 6560-50-P